DEPARTMENT OF TRANSPORTATION

Federal Aviation Administration

14 CFR Part 97

[Docket No. 31360; Amdt. No. 3948]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 24, 2021. The compliance date for each SIAP, associated Takeoff Minimums, and ODP is specified in the amendatory provisions.

The incorporation by reference of certain publications listed in the regulations is approved by the Director of the Federal Register as of March 24, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on March 5, 2021.
Wade Terrell,
Aviation Safety Manager, Flight Procedures & Airspace Group, Flight Technologies and Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
22-Apr-21 | IA | Marshalltown | Marshalltown Muni | 0/0038 | 12/21/20 | VOR RWY 31, Amdt 2A.
22-Apr-21 | IA | Marshalltown | Marshalltown Muni | 0/0039 | 12/21/20 | VOR RWY 13, Amdt 2A.
22-Apr-21 | MS | Jackson | Jackson-Medgar Wiley Evers Intl | 0/6207 | 12/8/20 | RNAV (GPS) RWY 16L, Amdt 2B.
22-Apr-21 | MS | Jackson | Jackson-Medgar Wiley Evers Intl | 0/6217 | 12/8/20 | RNAV (GPS) RWY 16R, Amdt 2B.
22-Apr-21 | MS | Jackson | Jackson-Medgar Wiley Evers Intl | 0/6231 | 12/8/20 | RNAV (GPS) RWY 34R, Amdt 2B.
22-Apr-21 | MS | Jackson | Jackson-Medgar Wiley Evers Intl | 0/6232 | 12/8/20 | RNAV (GPS) RWY 34L, Amdt 3B.
22-Apr-21 | MS | Jackson | Jackson-Medgar Wiley Evers Intl | 0/6237 | 12/8/20 | RADAR-1, Amdt 12.
22-Apr-21 | MS | Jackson | Jackson-Medgar Wiley Evers Intl | 0/6238 | 12/8/20 | ILS OR LOC RWY 16L, Amdt 8B.
22-Apr-21 | MS | Jackson | Jackson-Medgar Wiley Evers Intl | 0/6239 | 12/8/20 | VOR/DME OR TACAN RWY 16L, Orig-A.
22-Apr-21 | MS | Jackson | Jackson-Medgar Wiley Evers Intl | 0/6241 | 12/8/20 | VOR/DME OR TACAN RWY 16R, Orig-A.
22-Apr-21 | MS | Jackson | Jackson-Medgar Wiley Evers Intl | 0/6242 | 12/8/20 | VOR/DME OR TACAN RWY 34L, Orig-A.
22-Apr-21 | MS | Jackson | Jackson-Medgar Wiley Evers Intl | 0/6257 | 12/8/20 | ILS OR LOC RWY 34L, Amdt 6C.
22-Apr-21 | VA | Martinsville | Blue Ridge | 0/6341 | 12/7/20 | RNAV (GPS) RWY 31, Amdt 3.
22-Apr-21 | MT | Helena | Helena Rgnl | 0/6933 | 12/30/20 | RNAV (GPS) X RWY 27, Amdt 1C.
22-Apr-21 | MT | Helena | Helena Rgnl | 0/6934 | 12/30/20 | LOC/DME BC-C, Amdt 5A.
22-Apr-21 | MT | Helena | Helena Rgnl | 0/6936 | 12/30/20 | ILS OR LOC Z RWY 27, Amdt 2A.
22-Apr-21 | OK | Medford | Medford Muni | 0/7900 | 12/30/20 | RNAV (GPS) RWY 35, Orig-B.
22-Apr-21 | OK | Medford | Medford Muni | 0/7901 | 12/30/20 | RNAV (GPS) RWY 17, Orig-A.
22-Apr-21 | OH | Akron | Akron Fulton Intl | 0/8976 | 12/30/20 | LOC RWY 25, Amdt 14A.
22-Apr-21 | OH | Akron | Akron Fulton Intl | 0/8977 | 12/30/20 | NDB RWY 25, Amdt 15B.
22-Apr-21 | OH | Akron | Akron Fulton Intl | 0/8979 | 12/30/20 | RNAV (GPS) RWY 25, Orig-B.
22-Apr-21 | MO | Gideon | Gideon Meml | 1/0607 | 2/8/21 | RNAV (GPS) RWY 33, Orig-A.
22-Apr-21 | MO | Gideon | Gideon Meml | 1/0608 | 2/8/21 | RNAV (GPS) RWY 15, Orig-A.
2-Apr-21 | WV | Charleston | Yeager | 1/0749 | 2/5/21 | ILS OR LOC RWY 5, Orig.
22-Apr-21 | TX | Center | Center Muni | 1/1436 | 2/8/21 | RNAV (GPS) RWY 35, Orig-B.
22-Apr-21 | TX | Center | Center Muni | 1/1437 | 2/8/21 | RNAV (GPS) RWY 17, Orig-C.
22-Apr-21 | TX | Henderson | Rusk County | 1/1587 | 1/27/21 | VOR/DME-A, Amdt 3B.
22-Apr-21 | GA | Toccoa | Toccoa Rg Letourneau Fld | 1/1862 | 1/11/21 | RNAV (GPS) RWY 21, Amdt 2.
22-Apr-21 | CO | Steamboat Springs | Steamboat Springs/Bob Adams Fld | 1/1865 | 1/14/21 | VOR/DME-C, Amdt 1C.
22-Apr-21 | MA | Northampton | Northampton | 1/1884 | 1/11/21 | RNAV (GPS) RWY 14, Orig-A.
22-Apr-21 | MA | Northampton | Northampton | 1/1885 | 1/11/21 | VOR/DME-B, Amdt 5A.
22-Apr-21 | CA | Crescent City | Jack Mc Namara Field | 1/1981 | 1/14/21 | RNAV (GPS) RWY 36, Amdt 1.
22-Apr-21 | PA | Philipsburg | Mid-State | 1/2045 | 2/24/21 | RNAV (GPS) RWY 16, Orig-D.
22-Apr-21 | TX | Uvalde | Garner Fld | 1/2055 | 2/11/21 | RNAV (GPS) RWY 33, Orig-A.
22-Apr-21 | TX | Uvalde | Garner Fld | 1/2057 | 2/11/21 | NDB RWY 33, Amdt 2.
22-Apr-21 | RI | Westerly | Westerly State | 1/2432 | 2/25/21 | RNAV GPS RWY 7, Orig-B.
22-Apr-21 | GA | Atlanta | Covington Muni | 1/2761 | 2/22/21 | NDB RWY 28, Amdt 3B.
22-Apr-21 | KY | Hartford | Ohio County | 1/2796 | 1/21/21 | RNAV (GPS) RWY 21, Orig-D.
22-Apr-21 | KY | Hartford | Ohio County | 1/2797 | 1/21/21 | RNAV (GPS) RWY 3, Orig-D.
22-Apr-21 | MO | Bolivar | Bolivar Muni | 1/3140 | 1/22/21 | RNAV (GPS) RWY 36, Orig-A.
22-Apr-21 | MO | Bolivar | Bolivar Muni | 1/3141 | 1/22/21 | RNAV (GPS) RWY 18, Orig.
22-Apr-21 | TX | Lubbock | Lubbock Preston Smith Intl | 1/3930 | 1/15/21 | RNAV (GPS) Y RWY 17R, Amdt 2C.
22-Apr-21 | IA | Keokuk | Keokuk Muni | 1/4082 | 2/17/21 | RNAV (GPS) RWY 32, Orig-B.
22-Apr-21 | IA | Keokuk | Keokuk Muni | 1/4083 | 2/17/21 | RNAV (GPS) RWY 26, Orig-B.
22-Apr-21 | IA | Keokuk | Keokuk Muni | 1/4086 | 2/17/21 | RNAV (GPS) RWY 14, Orig-C.
22-Apr-21 | IA | Keokuk | Keokuk Muni | 1/4088 | 2/17/21 | RNAV (GPS) RWY 8, Orig-B.
22-Apr-21 | IA | Keokuk | Keokuk Muni | 1/4090 | 2/17/21 | ILS OR LOC/DME RWY 26, Orig-D.
22-Apr-21 | MO | Harrisonville | Lawrence Smith Meml | 1/4305 | 1/22/21 | RNAV (GPS) RWY 35, Orig-B.
22-Apr-21 | MO | Harrisonville | Lawrence Smith Meml | 1/4306 | 1/22/21 | RNAV (GPS) RWY 17, Orig-A.
22-Apr-21 | IL | Chicago | Chicago O'Hare Intl | 1/5384 | 1/20/21 | RNAV (GPS) Y RWY 10R, Orig-A.
22-Apr-21 | IL | Chicago | Chicago O'Hare Intl | 1/5385 | 1/20/21 | RNAV (GPS) PRM Y RWY 10R, Orig-A.
22-Apr-21 | IL | Chicago | Chicago O'Hare Intl | 1/5386 | 1/20/21 | ILS Y OR LOC Y RWY 10R, Orig-C.
22-Apr-21 | IL | Chicago | Chicago O'Hare Intl | 1/5387 | 1/20/21 | ILS PRM Y RWY 10R (CLOSE PARALLEL), Orig-C.
22-Apr-21 | IL | Sparta | Sparta Community-Hunter Fld | 1/5602 | 2/25/21 | RNAV (GPS) RWY 18, Amdt 1B.
22-Apr-21 | IL | Sparta | Sparta Community-Hunter Fld | 1/5603 | 2/25/21 | RNAV (GPS) RWY 36, Orig-A.
22-Apr-21 | PA | Reedsville | Mifflin County | 1/5610 | 2/25/21 | LOC RWY 6, Amdt 8C.
22-Apr-21 | PA | Reedsville | Mifflin County | 1/5611 | 2/25/21 | RNAV (GPS) RWY 6, Orig-B.
22-Apr-21 | PA | Reedsville | Mifflin County | 1/5612 | 2/25/21 | RNAV (GPS) RWY 24, Orig-C.
22-Apr-21 | OR | Pendleton | Eastern Oregon Rgnl At Pendleton | 1/5636 | 1/26/21 | RNAV (GPS) RWY 29, Orig-A.
22-Apr-21 | CA | Sacramento | Sacramento Exec | 1/6082 | 2/2/21 | VOR RWY 2, Amdt 10E.
22-Apr-21 | CA | Sacramento | Sacramento Exec | 1/6083 | 2/2/21 | ILS OR LOC RWY 2, Amdt 24E.
22-Apr-21 | MD | Fort Meade(Odenton) | Tipton | 1/6445 | 2/24/21 | RNAV (GPS) RWY 10, Amdt 1B.
22-Apr-21 | MD | Fort Meade(Odenton) | Tipton | 1/6446 | 2/24/21 | RNAV (GPS) RWY 28, Amdt 1B.
22-Apr-21 | AK | Adak Island | Adak | 1/6455 | 2/23/21 | RNAV (GPS) RWY 23, Orig-A.
22-Apr-21 | TX | Vernon | Wilbarger County | 1/6456 | 2/24/21 | RNAV (GPS) RWY 2, Orig.
22-Apr-21 | TX | Vernon | Wilbarger County | 1/6457 | 2/24/21 | RNAV (GPS) RWY 20, Orig.
22-Apr-21 | TX | Wink | Winkler County | 1/6460 | 2/24/21 | RNAV (GPS) RWY 31, Amdt 1A.
22-Apr-21 | TX | Wink | Winkler County | 1/6469 | 2/24/21 | RNAV (GPS) RWY 13, Amdt 1A.
22-Apr-21 | TX | Palacios | Palacios Muni | 1/6476 | 2/24/21 | RNAV (GPS) RWY 13, Orig-C.
22-Apr-21 | VA | Staunton/Waynesboro/Harrisonburg | Shenandoah Valley Rgnl | 1/6478 | 2/23/21 | RNAV (GPS) RWY 5, Orig.
22-Apr-21 | VA | Staunton/Waynesboro/Harrisonburg | Shenandoah Valley Rgnl | 1/6479 | 2/23/21 | RNAV (GPS) RWY 23, Orig.
22-Apr-21 | VA | Staunton/Waynesboro/Harrisonburg | Shenandoah Valley Rgnl | 1/6480 | 2/23/21 | NDB RWY 5, Amdt 10.
22-Apr-21 | VA | Staunton/Waynesboro/Harrisonburg | Shenandoah Valley Rgnl | 1/6481 | 2/23/21 | ILS OR LOC RWY 5, Amdt 9.
22-Apr-21 | TX | Palacios | Palacios Muni | 1/6490 | 2/24/21 | VOR RWY 13, Amdt 10F.
22-Apr-21 | TX | Edinburg | South Texas Intl At Edinburg | 1/6564 | 1/26/21 | RNAV (GPS) RWY 14, Orig.
22-Apr-21 | TX | Edinburg | South Texas Intl At Edinburg | 1/6566 | 1/26/21 | RNAV (GPS) RWY 32, Orig.
22-Apr-21 | TX | Madisonville | Madisonville Muni | 1/6568 | 1/26/21 | VOR/DME RWY 18, Amdt 2B.
22-Apr-21 | MT | Helena | Helena Rgnl | 1/6593 | 1/26/21 | RNAV (GPS) Y RWY 9, Amdt 1B.
22-Apr-21 | TX | Amarillo | Rick Husband Amarillo Intl | 1/6703 | 1/29/21 | RADAR 1, Amdt 16A.
22-Apr-21 | TX | Henderson | Rusk County | 1/7186 | 2/2/21 | RNAV (GPS) RWY 17, Amdt 1.
22-Apr-21 | NJ | Newark | Newark Liberty Intl | 1/7776 | 2/17/21 | ILS OR LOC RWY 4R, ILS RWY 4R (CAT II AND III), Amdt 13B.
22-Apr-21 | NJ | Newark | Newark Liberty Intl | 1/7777 | 2/17/21 | ILS OR LOC RWY 22L, ILS RWY 22L (SA CAT I), ILS RWY 22L (CAT II AND III), Amdt 13D.
22-Apr-21 | KS | Wichita | Wichita Dwight D Eisenhower National | 1/8084 | 3/1/21 | ILS OR LOC RWY 1R, Amdt 17C.
22-Apr-21 | AR | Newport | Newport Rgnl | 1/8232 | 3/1/21 | VOR RWY 18, Amdt 4B.
22-Apr-21 | KS | Belleville | Belleville Muni | 1/8987 | 2/2/21 | VOR-A, Amdt 3D.
22-Apr-21 | TN | Morristown | Moore-Murrell | 1/9040 | 3/2/21 | RNAV (GPS) RWY 23, Orig-D.
22-Apr-21 | TN | Morristown | Moore-Murrell | 1/9041 | 3/2/21 | NDB RWY 5, Amdt 5C.
22-Apr-21 | TN | Morristown | Moore-Murrell | 1/9042 | 3/2/21 | SDF RWY 5, Amdt 5C.
22-Apr-21 | TN | Morristown | Moore-Murrell | 1/9043 | 3/2/21 | RNAV (GPS) RWY 5, Orig-C.
22-Apr-21 | OH | Bellefontaine | Bellefontaine Rgnl | 1/9053 | 3/2/21 | VOR/DME RWY 25, Orig-B.
22-Apr-21 | OH | Bellefontaine | Bellefontaine Rgnl | 1/9055 | 3/2/21 | VOR RWY 7, Orig-C.
22-Apr-21 | OH | Bellefontaine | Bellefontaine Rgnl | 1/9056 | 3/2/21 | RNAV (GPS) RWY 25, Amdt 1A.
22-Apr-21 | OH | Bellefontaine | Bellefontaine Rgnl | 1/9057 | 3/2/21 | RNAV (GPS) RWY 7, Amdt 1A.
22-Apr-21 | NC | Elizabethtown | Curtis L Brown Jr Fld | 1/9085 | 3/2/21 | VOR/DME RWY 15, Amdt 2.
22-Apr-21 | NC | Elizabethtown | Curtis L Brown Jr Fld | 1/9087 | 3/2/21 | RNAV GPS RWY 15, Orig.
22-Apr-21 | NC | Elizabethtown | Curtis L Brown Jr Fld | 1/9088 | 3/2/21 | RNAV GPS RWY 33, Orig-A.
22-Apr-21 | WI | Eagle River | Eagle River Union | 1/9105 | 3/2/21 | VOR/DME RWY 4, Amdt 1B.
22-Apr-21 | WI | Eagle River | Eagle River Union | 1/9106 | 3/2/21 | RNAV (GPS) RWY 22, Orig-B.
22-Apr-21 | WI | Eagle River | Eagle River Union | 1/9107 | 3/2/21 | RNAV (GPS) RWY 4, Orig-A.
22-Apr-21 | WI | Eagle River | Eagle River Union | 1/9108 | 3/2/21 | LOC/DME RWY 4, Orig-B.
22-Apr-21 | CO | Gunnison | Gunnison-Crested Butte Rgnl | 1/9142 | 3/2/21 | GPS-B, Orig-A.
22-Apr-21 | CO | Gunnison | Gunnison-Crested Butte Rgnl | 1/9143 | 3/2/21 | ILS OR LOC RWY 6, Amdt 5B.
22-Apr-21 | CO | Gunnison | Gunnison-Crested Butte Rgnl | 1/9145 | 3/2/21 | VOR OR GPS-A, Amdt 7C.
22-Apr-21 | CA | Lompoc | Lompoc | 1/9554 | 3/2/21 | RNAV (GPS) RWY 25, Amdt 1B.
22-Apr-21 | CA | Lompoc | Lompoc | 1/9555 | 3/2/21 | VOR/DME-A, Amdt 5A.
22-Apr-21 | AK | Adak Island | Adak | 1/9716 | 3/3/21 | NDB/DME RWY 23, Orig-A.
22-Apr-21 | FL | Apopka | Orlando Apopka | 1/9948 | 2/11/21 | RNAV (GPS)-B, Orig.
22-Apr-21 | FL | Apopka | Orlando Apopka | 1/9949 | 2/11/21 | RNAV (GPS)-A, Orig.

[FR Doc. 2021-06055 Filed 3-23-21; 8:45 am]

BILLING CODE 4910-13-P